DEPARTMENT OF COMMERCE

International Trade Administration

Proposed Information Collection; Comment Request; Foreign-Trade Zone Application

AGENCY: International Trade Administration, Department of Commerce.

ACTION: Notice.

SUMMARY: The Department of Commerce, as part of its continuing effort to reduce paperwork and respondent burden, invites the general public and other Federal Agencies to take this opportunity to comment on proposed and/or continuing information collections, as required by the Paperwork Reduction Act of 1995.

DATES: Written comments must be submitted on or before May 23, 2008.

ADDRESSES: Direct all written comments to Diana Hynek, Departmental Paperwork Clearance Officer, Department of Commerce, Room 6625, 14th and Constitution Avenue, NW., Washington, DC 20230 (or via the Internet at: dHynek@doc.gov).

FOR FURTHER INFORMATION CONTACT: Requests for additional information or copies of the information collection instrument and instructions should be directed to Christopher J. Kemp, Foreign-Trade Zones Staff, (202) 482-0862 or via e-mail, christopher_kemp@ita.doc.gov.

SUPPLEMENTARY INFORMATION:

I. Abstract

The Foreign-Trade Zone Application is the vehicle by which individual firms or organizations apply for foreign-trade zone (FTZ) status, subzone status, or expansion of an existing zone. The FTZ Act and Regulations require that an application with a description of the proposed project be made to the FTZ Board (19 U.S.C. 81b and 81f; 15 CFR 400.24-26) before a license can be issued or a zone can be expanded. They also require that applications contain detailed information on facilities, financing, operational plans, proposed manufacturing operations, need, and economic impact. The manufacturing activity in zones, which is primarily conducted in subzones, can involve issues related to domestic industry and trade policy impact. These applications must include specific information on the Customs tariff-related savings that result from zone procedures and the economic consequences of permitting such savings. The FTZ Board requires complete and accurate information on the proposed operation and its economic effects because the regulations authorize the Board to restrict or prohibit operations that are detrimental to the public interest.

II. Method of Collection

The applications are in paper format.

III. Data

OMB Control Number: 0625-0139.

Form Number: None.

Type of Review: Regular submission.

Affected Public: State, local, or tribal government; not-for-profit institutions.

Estimated Number of Respondents: 145.

Estimated Time per Response: 20 to 120 hours, depending on type of application.

Estimated Total Annual Burden Hours: 9,180 hours.

Estimated Total Annual Costs: $0.

IV. Request for Comments

Comments are invited on (a) whether the proposed collection of information is necessary for the proper performance of the functions of the agency, including whether the information shall have practical utility; (b) the accuracy of the agency's estimate of the burden (including hours and costs) of the proposed collection of information; (c) ways to enhance the quality, utility, and clarity of the information to be collected; and (d) ways to minimize the burden of the collection of information on respondents, including through the use of automated collection techniques or forms of information technology.

Comments submitted in response to this notice will be summarized and/or included in the request for OMB approval of this information collection; they also will become a matter of public record.

Dated: March 18, 2008.
Gwellnar Banks,
Management Analyst, Office of the Chief Information Officer.

[FR Doc. E8-5825 Filed 3-21-08; 8:45 am]

BILLING CODE 3510-DS-P